DEPARTMENT OF TRANSPORTATION

Federal Aviation Administration

14 CFR Part 39

[Docket No. 2003-CE-63-AD]

RIN 2120-AA64

Airworthiness Directives; HPH s.r.o. Models Glasflü gel 304CZ, 304CZ-17, and 304C Sailplanes

AGENCY: Federal Aviation Administration (FAA), DOT.

ACTION: Notice of proposed rulemaking (NPRM).

SUMMARY: The FAA proposes to adopt a new airworthiness directive (AD) for all HPH s.r.o. (HPH) Models Glasflü gel 304CZ, 304CZ-17, and 304C sailplanes. This proposed AD would require you to inspect to determine the airbrake handle attachment rivet material. This proposed AD would require you to replace any non-steel rivet with a steel rivet. This proposed AD is the result of mandatory continuing airworthiness information (MCAI) issued by the airworthiness authority for the Czech Republic. We are issuing this proposed AD to prevent the airbrake handle from becoming loose, which could result in failure of the airbrake control. This failure could lead to loss of control of the sailplane.

DATES: We must receive any comments on this proposed AD by March 4, 2004.

ADDRESSES: Use one of the following to submit comments on this proposed AD:

• By mail: FAA, Central Region, Office of the Regional Counsel, Attention: Rules Docket No. 2003-CE-63-AD, 901 Locust, Room 506, Kansas City, Missouri 64106.

• By fax: (816) 329-3771.

• By e-mail: 9-ACE-7-Docket@faa.gov. Comments sent electronically must contain “Docket No. 2003-CE-63-AD” in the subject line. If you send comments electronically as attached electronic files, the files must be formatted in Microsoft Word 97 for Windows or ASCII.

You may get the service information identified in this proposed AD from HPH spol.s r.o., Cáslavská 126, P.O. Box 112, CZ284 01 Kutná Hora, Czech Republic; telephone: 011-42-327 513441; e-mail: hph@hph.cz.

You may view the AD docket at FAA, Central Region, Office of the Regional Counsel, Attention: Rules Docket No. 2003-CE-63-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How Do I Comment on This Proposed AD?

We invite you to submit any written relevant data, views, or arguments regarding this proposal. Send your comments to an address listed under ADDRESSES. Include “AD Docket No. 2003-CE-63-AD” in the subject line of your comments. If you want us to acknowledge receipt of your mailed comments, send us a self-addressed, stamped postcard with the docket number written on it. We will date-stamp your postcard and mail it back to you.

Are There Any Specific Portions of This Proposed AD I Should Pay Attention To?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

The Civil Aviation Authority (CAA), which is the airworthiness authority for the Czech Republic, recently notified FAA that an unsafe condition may exist on all HPH Models Glasflü gel 304CZ, 304CZ-17, and 304C sailplanes. The CAA reports that excessive free play in the airbrake handle was found during a pre-flight check on a Glasflü gel 304CZ sailplane.

A non-steel (duralumin) rivet connecting the airbrake handle to the pushrod had become loose.

What Are the Consequences if the Condition Is Not Corrected?

If not corrected, a loose airbrake handle could result in failure of airbrake control. This failure could lead to loss of control of the sailplane.

Is There Service Information That Applies to This Subject?

HPH spol.s r.o. has issued Mandatory bulletin No.: G304CZ-05 a) G304CZ17-05 a), dated March 26, 2003.

What Are the Provisions of This Service Information?

The service bulletin includes procedures for:

• Inspecting to determine the airbrake handle attachment rivet material; and

• Replacing any non-steel rivet with a steel rivet.

What Action Did the CAA Take?

The CAA classified this service bulletin as mandatory and issued Czech Republic AD Number CAA-AD-040/2003, dated May 6, 2003, to ensure the continued airworthiness of these sailplanes in Czech Republic.

Did the CAA Inform the United States Under the Bilateral Airworthiness Agreement?

These HPH Models Glasflügel 304CZ, 304CZ-17, and 304C sailplanes are manufactured in the Czech Republic and are type-certificated for operation in the United States under the provisions of section 21.29 of the Federal Aviation Regulations (14 CFR 21.29) and the applicable bilateral airworthiness agreement.

Under this bilateral airworthiness agreement, the CAA has kept us informed of the situation described above.

FAA's Determination and Requirements of This Proposed AD

What Has FAA Decided?

We have examined the CAA's findings, reviewed all available information, and determined that AD action is necessary for products of this type design that are certificated for operation in the United States.

Since the unsafe condition described previously is likely to exist or develop on other HPH Models Glasflügel 304CZ, 304CZ-17, and 304C sailplanes of the same type design that are registered in the United States, we are proposing AD action to prevent the airbrake handle from becoming loose, which could result in failure of the airbrake control. This failure could lead to loss of control of the sailplane.

What Would This Proposed AD Require?

This proposed AD would require you to incorporate the actions in the previously-referenced service bulletin.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Sailplanes Would This Proposed AD Impact?

We estimate that this proposed AD affects 12 sailplanes in the U.S. registry.

What Would Be the Cost Impact of This Proposed AD on Owners/Operators of the Affected Sailplanes?

We estimate the following costs to accomplish this proposed inspection:

Labor cost | Parts cost | Total cost per airplane | Total cost on U.S. operators
1 workhour × $65 per hour = $65 | Not applicable | $65 | $65 × 12 = $780

We estimate the following costs to accomplish any necessary replacements that would be required based on the results of this proposed inspection. We have no way of determining the number of sailplanes that may need this replacement:

Labor cost | Parts cost | Total cost per airplane
1 workhour × $65 per hour = $65 | $10 | $65 + 10 = $75

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-63-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

HPH S. R.O.: Docket No. 2003-CE-63-AD.

When Is the Last Date I Can Submit Comments on This Proposed AD?

(a) We must receive comments on this proposed airworthiness directive (AD) by March 4, 2004.

What Other ADs Are Affected by This Action?

(b) None.

What Sailplanes Are Affected by This AD?

(c) This AD affects Models Glasflügel 304CZ, 304CZ-17, and 304C sailplanes, serial numbers 1 though 60-17, that are certificated in any category.

What Is the Unsafe Condition Presented in This AD?

(d) This AD is the result of mandatory continuing airworthiness information (MCAI) issued by the airworthiness authority for the Czech Republic. The actions specified in this AD are intended to prevent the airbrake handle from becoming loose, which could result in failure of the airbrake control. This failure could lead to loss of control of the sailplane.

What Must I Do To Address This Problem?

(e) To address this problem, you must do the following:

Actions | Compliance | Procedures
(1) Inspect to determine the airbrake handle attachment rivet material | Within the next 25 hours time-in-service (TIS) after the effective date of this AD. | Follow HPH spol.s r.o. Mandatory Bulletin No.: G304CZ-05 a) G304CZ17-05 a), dated March 26, 2003.
(2) Replace any non-steel attachment rivet with a steel rivet | Before further flight after the inspection required in paragraph (e)(1) of this AD. | Follow HPH spol.s r.o. Mandatory Bulletin No.: G304CZ-05 a) G304CZ17-05 a), dated March 26, 2003.

May I Request an Alternative Method of Compliance?

(f) You may request a different method of compliance or a different compliance time for this AD by following the procedures in 14 CFR 39.13. Send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from HPH spol.s r.o., Cáslavská 126, P.O. Box 112, CZ284 01 Kutná Hora, Czech Republic; telephone: 011-42-327 513441; e-mail: hph@hph.cz.

You may view these documents at FAA, Central Region, Office of the Regional Counsel, 901 Locust, Room 506, Kansas City, Missouri 64106.

Is There Other Information That Relates to This Subject?

(h) Czech Republic AD Number CAA-AD-040/2003, dated May 6, 2003.

Issued in Kansas City, Missouri, on January 26, 2004.
Dorenda D. Baker,
Manager, Small Airplane Directorate, Aircraft Certification Service.

[FR Doc. 04-2252 Filed 2-3-04; 8:45 am]

BILLING CODE 4910-13-P